DEPARTMENT OF COMMERCE

International Trade Administration

[A-423-813, A-301-803, A-549-833]

Citric Acid and Certain Citrate Salts From Belgium, Colombia, and Thailand: Initiation of Less-Than-Fair-Value Investigations

AGENCY: Enforcement and Compliance, International Trade Administration, Department of Commerce.

DATES: Effective June 22, 2017.

FOR FURTHER INFORMATION CONTACT: Paul Stolz at (202) 482-4474 (Belgium); Stephanie Moore at (202) 482-3692 (Colombia); and George McMahon at (202) 482-1167 (Thailand), AD/CVD Operations, Enforcement and Compliance, U.S. Department of Commerce, 1401 Constitution Avenue NW., Washington, DC 20230.

SUPPLEMENTARY INFORMATION:

The Petitions

On June 2, 2017, the Department of Commerce (the Department) received antidumping duty (AD) petitions (the Petitions) concerning imports of citric acid and certain citrate salts (citric acid) from Belgium, Colombia, and Thailand, filed in proper form on behalf of Archer Daniels Midland Company (ADM); Cargill Incorporated (Cargill); and Tate & Lyle Ingredients America LLC (Tate & Lyle) (collectively, the petitioners).¹ The Petitions were accompanied by a countervailing duty (CVD) petition concerning citric acid from Thailand.² The petitioners are domestic producers of citric acid.³

¹ See “Petitions for the Imposition of Antidumping and Countervailing Duties on Citric Acid and Certain Citrate Salts from Belgium, Colombia, and Thailand,”, dated June 2, 2017 (the Petitions).

² Id.

³ See Volume I of the Petitions, at 2.

On June 7, 12, 14, and 16, 2017, the Department requested additional information and clarification of certain areas of the Petitions.⁴ The petitioners filed responses to these requests on June 9, 14, 15, and 16, 2017, respectively.⁵

⁴ See Country-specific letters to the petitioners from the Department concerning supplemental questions on each of the country-specific records, dated June 7, 2017; see also Letter to the petitioners from the Department concerning supplemental questions on general issues, dated June 12, 2017; Memorandum to the File “Antidumping Duty Petition for the Imposition of Antidumping Duties on Citric Acid and Certain Citrate Salts from Belgium and Thailand. Re: Overhead and Profit,” dated June 14, 2017.

⁵ See Country-specific amendments to the Petitions on each of the country-specific records; see also Letter from the Petitioners, “Antidumping Duty Investigation of Citric Acid and Certain Citrate Salts from Belgium, Colombia, and Thailand: Petitioners' Responses to Supplemental Questions—Volume I,” dated June 14, 2017 (General Issues Supplement).

In accordance with section 732(b) of the Tariff Act of 1930, as amended (the Act), the petitioners allege that imports of citric acid and certain citrate salts from Belgium, Colombia, and Thailand, are being, or are likely to be, sold in the United States at less than fair value within the meaning of section 731 of the Act, and that such imports are materially injuring, or threatening material injury to, an industry in the United States. Also, consistent with section 732(b)(1) of the Act, the Petitions are accompanied by information reasonably available to the petitioners supporting their allegations.

The Department finds that the petitioners filed these Petitions on behalf of the domestic industry because the petitioners are interested parties as defined in section 771(9)(C) of the Act. The Department also finds that the petitioners demonstrated sufficient industry support with respect to the initiation of the AD investigations that the petitioners are requesting.⁶

⁶ See the “Determination of Industry Support for the Petitions” section below.

Period of Investigation

Because the Petitions were filed on June 2, 2017, the period of investigation (POI) for each investigation is April 1, 2016, through March 31, 2017.⁷

⁷ See 19 CFR 351.204(b)(1).

Scope of the Investigations

The product covered by these investigations is citric acid and certain citrate salts from Belgium, Colombia, and Thailand. For a full description of the scope of these investigations, see the “Scope of the Investigations,” in the Appendix to this notice.

Comments on Scope of the Investigations

During our review of the Petitions, the Department issued questions to, and received responses from, the petitioners pertaining to the proposed scope to ensure that the scope language in the Petitions would be an accurate reflection of the products for which the domestic industry is seeking relief.⁸

⁸ See General Issues Supplement, at 1-4.

As discussed in the preamble to the Department's regulations, we are setting aside a period for interested parties to raise issues regarding product coverage (scope). The Department will consider all comments received from parties and, if necessary, will consult with parties prior to the issuance of the preliminary determinations. If scope comments include factual information (see 19 CFR 351.102(b)(21)), all such factual information should be limited to public information. In order to facilitate preparation of its questionnaires, the Department requests all interested parties to submit such comments by 5:00 p.m. Eastern Time (ET) on July 12, 2017, which is 20 calendar days from the signature date of this notice. Any rebuttal comments, which may include factual information (also limited to public information), must be filed by 5:00 p.m. ET on July 24, 2017, which is the next business day after 10 calendar days after the initial comments. All such comments must be filed on the records of each of the concurrent AD and CVD investigations.

The Department requests that any factual information the parties consider relevant to the scope of the investigations be submitted during this time period. However, if a party subsequently believes that additional factual information pertaining to the scope of the investigations may be relevant, the party may contact the Department and request permission to submit the additional information. As stated above, all such comments must be filed on the records of each of the concurrent AD and CVD investigations.

Filing Requirements

All submissions to the Department must be filed electronically using Enforcement and Compliance's Antidumping and Countervailing Duty Centralized Electronic Service System (ACCESS).⁹ An electronically filed document must be received successfully in its entirety by the time and date when it is due. Documents excepted from the electronic submission requirements must be filed manually (i.e., in paper form) with Enforcement and Compliance's APO/Dockets Unit, Room 18022, U.S. Department of Commerce, 1401 Constitution Avenue NW., Washington, DC 20230, and stamped with the date and time of receipt by the applicable deadlines.

⁹ See 19 CFR 351.303 (for general filing requirements); see also Antidumping and Countervailing Duty Proceedings: Electronic Filing Procedures; Administrative Protective Order Procedures, 76 FR 39263 (July 6, 2011) for details of the Department's electronic filing requirements, which went into effect on August 5, 2011. Information on help using ACCESS can be found at https://access.trade.gov/help.aspx and a handbook can be found at https://access.trade.gov/help/Handbook%20on%20Electronic%20Filling%20Procedures.pdf.

Comments on Product Characteristics for AD Questionnaires

The Department will provide interested parties an opportunity to comment on the appropriate physical characteristics of citric acid to be reported in response to the Department's AD questionnaires. This information will be used to identify the key physical characteristics of the merchandise under consideration in order to report the relevant costs of production accurately as well as to develop appropriate product-comparison criteria.

Interested parties may provide any information or comments that they feel are relevant to the development of an accurate list of physical characteristics. Specifically, they may provide comments as to which characteristics are appropriate to use as: (1) General product characteristics and (2) product-comparison criteria. We note that it is not always appropriate to use all product characteristics as product-comparison criteria. We base product-comparison criteria on meaningful commercial differences among products. In other words, although there may be some physical product characteristics utilized by manufacturers to describe citric acid, it may be that only a select few product characteristics take into account commercially meaningful physical characteristics. In addition, interested parties may comment on the order in which the physical characteristics should be used in matching products. Generally, the Department attempts to list the most important physical characteristics first and the least important characteristics last.

In order to consider the suggestions of interested parties in developing and issuing the AD questionnaires, all product characteristics comments must be filed by 5:00 p.m. ET on July 12, 2017, which is 20 calendar days from the signature date of this notice. Any rebuttal comments, must be filed by 5:00 p.m. ET on July 24, 2017. All comments and submissions to the Department must be filed electronically using ACCESS, as explained above, on the records of the Belgium, Colombia, and Thailand less-than-fair-value investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,¹⁰ they do so for different purposes and pursuant to a separate and distinct authority. In addition, the Department's determination is subject to limitations of time and information. Although this may result in different definitions of the like product, such differences do not render the decision of either agency contrary to law.¹¹

¹⁰ See section 771(10) of the Act.

¹¹ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petitions).

With regard to the domestic like product, the petitioners do not offer a definition of the domestic like product distinct from the scope of the investigations. Based on our analysis of the information submitted on the record, we have determined that citric acid, as defined in the scope, constitutes a single domestic like product and we have analyzed industry support in terms of that domestic like product.¹²

¹² For a discussion of the domestic like product analysis, see Antidumping Duty Investigation Initiation Checklist: Citric Acid and Certain Citrate Salts from Belgium (Belgium AD Initiation Checklist), at Attachment II, Analysis of Industry Support for the Antidumping and Countervailing Duty Petitions Covering Citric Acid and Certain Citrate Salts from Belgium, Colombia, and Thailand (Attachment II); Antidumping Duty Investigation Initiation Checklist: Citric Acid and Certain Citrate Salts from Colombia (Colombia AD Initiation Checklist), at Attachment II; and Antidumping Duty Investigation Initiation Checklist: Citric Acid and Certain Citrate Salts from Thailand (Thailand AD Initiation Checklist), at Attachment II. These checklists are dated concurrently with, and hereby adopted by, this notice and on file electronically via ACCESS. Access to documents filed via ACCESS is also available in the Central Records Unit, Room B8024 of the main Department of Commerce building.

In determining whether the petitioners have standing under section 732(c)(4)(A) of the Act, we considered the industry support data contained in the Petitions with reference to the domestic like product as defined in the “Scope of the Investigations,” in the Appendix to this notice. To establish industry support, the petitioners provided their own production of the domestic like product in 2016.¹³ The petitioners state that they represent the totality of the domestic industry producing citric acid; therefore, the Petitions are supported by 100 percent of the U.S. industry.¹⁴

¹³ See Volume I of the Petitions, at Exhibit I-13.

¹⁴ Id., at 2-3 and Exhibits I-1 and I-2; see also General Issues Supplement, at 1, 7 and Attachments 1 and 3.

Our review of the data provided in the Petitions, the General Issues Supplement, and other information readily available to the Department indicates that the petitioners have established industry support for the Petitions.¹⁵ First, the Petitions established support from domestic producers (or workers) accounting for more than 50 percent of the total production of the domestic like product and, as such, the Department is not required to take further action in order to evaluate industry support (e.g., polling).¹⁶ Second, the domestic producers (or workers) have met the statutory criteria for industry support under section 732(c)(4)(A)(i) of the Act because the domestic producers (or workers) who support the Petitions account for at least 25 percent of the total production of the domestic like product.¹⁷ Finally, the domestic producers (or workers) have met the statutory criteria for industry support under section 732(c)(4)(A)(ii) of the Act because the domestic producers (or workers) who support the Petitions account for more than 50 percent of the production of the domestic like product produced by that portion of the industry expressing support for, or opposition to, the Petitions.¹⁸ Accordingly, the Department determines that the Petitions were filed on behalf of the domestic industry within the meaning of section 732(b)(1) of the Act.

¹⁵ See Belgium AD Initiation Checklist, Colombia AD Initiation Checklist, and Thailand AD Initiation Checklist, at Attachment II.

¹⁶ See section 732(c)(4)(D) of the Act; see also Belgium AD Initiation Checklist, Colombia AD Initiation Checklist, and Thailand AD Initiation Checklist, at Attachment II.

¹⁷ See Belgium AD Initiation Checklist, Colombia AD Initiation Checklist, and Thailand AD Initiation Checklist, at Attachment II.

¹⁸ Id.

The Department finds that the petitioners filed the Petitions on behalf of the domestic industry because they are interested parties as defined in section 771(9)(C) of the Act and they have demonstrated sufficient industry support with respect to the AD investigations that they are requesting that the Department initiate.¹⁹

¹⁹ Id.

Allegations and Evidence of Material Injury and Causation

The petitioners allege that the U.S. industry producing the domestic like product is being materially injured, or is threatened with material injury, by reason of the imports of the subject merchandise sold at less than normal value (NV). In addition, the petitioners allege that subject imports exceed the negligibility threshold provided for under section 771(24)(A) of the Act.²⁰

²⁰ See Volume I of the Petitions, at 21-22 and Exhibit I-12.

The petitioners contend that the industry's injured condition is illustrated by reduced market share; underselling and price suppression or depression; lost sales and revenues; adverse impact on the domestic industry's production, capacity utilization, and U.S. shipments; and declines in financial performance.²¹ We have assessed the allegations and supporting evidence regarding material injury, threat of material injury, and causation, and we have determined that these allegations are properly supported by adequate evidence, and meet the statutory requirements for initiation.²²

²¹ See Volume I of the Petitions, at 17-32 and Exhibits I-7 and I-9—I-15; see also General Issues Supplement, at 1, 7 and Attachments 1 and 3.

²² See Belgium AD Initiation Checklist, at Attachment III, Analysis of Allegations and Evidence of Material Injury and Causation for the Antidumping and Countervailing Duty Petitions Covering Citric Acid and Certain Citrate Salts from Belgium, Colombia, and Thailand (Attachment III); Colombia AD Initiation Checklist, at Attachment III; and Thailand AD Initiation Checklist, at Attachment III.

Allegations of Sales at Less Than Fair Value

The following is a description of the allegations of sales at less than fair value upon which the Department based its decision to initiate investigations of imports of citric acid from Belgium, Colombia and Thailand. The sources of data for the deductions and adjustments relating to U.S. price and NV are discussed in greater detail in the country-specific initiation checklists.²³

²³ See Belgium AD Initiation Checklist; Colombia AD Initiation Checklist; and Thailand AD Initiation Checklist.

Export Price

For Belgium, Colombia, and Thailand, the petitioners based export price (EP) on two methodologies: (1) POI average unit values (AUVs), and (2) transaction-specific AUVs for shipments of citric acid from the three countries. The first uses official U.S. import statistics to determine the AUV of imports of citric acid under the relevant Harmonized Tariff Schedule of the United States (HTSUS) subheading during the POI. The second involves matching individual shipments of goods identified in the U.S. Customs and Border Protection's (CBP's) Automated Manifest System (AMS) to individual entries of citric acid in the official U.S. import statistics for specific months and specific ports.²⁴ Because the AUVs are based on the reported customs values and include freight and brokerage and handling to the port of exportation, the petitioners adjusted the customs values for foreign brokerage and handling and foreign inland freight costs to arrive at an ex-factory price.²⁵

²⁴ See Belgium AD Initiation Checklist; Colombia AD Initiation Checklist; and Thailand AD Initiation Checklist.

²⁵ Id.

Normal Value Based on Home Market Prices

For Belgium, Colombia, and Thailand, the petitioners provided home market price information obtained through market research for citric acid produced in, and offered for sale in, each of these countries.²⁶ For all three of these countries, the petitioners provided a declaration from a market researcher for the price information.²⁷ Where applicable, the petitioners made certain deductions from the prices for movement or other expenses, consistent with the terms of sale.²⁸

²⁶ Id.

²⁷ Id.

²⁸ Id.

For Belgium and Thailand, the petitioners provided information indicating that sales of citric acid in the home market were made at prices below the cost of production (COP) and, as a result, calculated NV based on constructed value (CV).29 30 For further discussion of COP and NV based on CV, see below.

²⁹ See Belgium AD Initiation Checklist and Thailand AD Initiation Checklist.

³⁰ Under the Trade Preferences Extension Act of 2015, numerous amendments to the AD and CVD laws were made. See Trade Preferences Extension Act of 2015, Public Law 114-27, 129 Stat. 362 (2015). See also Dates of Application of Amendments to the Antidumping and Countervailing Duty Laws Made by the Trade Preferences Extension Act of 2015, 80 FR 46793 (August 6, 2015) (Applicability Notice). The amendments to sections 771(15), 773, 776, and 782 of the Act are applicable to all determinations made on or after August 6, 2015, and, therefore, apply to these AD investigations. See Applicability Notice, 80 FR at 46794-95. The 2015 amendments may be found at https://www.congress.gov/bill/114th-congress/house-bill/1295/text/pl.

Normal Value Based on Constructed Value

Pursuant to section 773(b)(3) of the Act, COP consists of the cost of manufacturing (COM); selling, general and administrative (SG&A) expenses; financial expenses; and packing expenses.

For Belgium, the petitioners calculated COM during the POI, adjusted for known differences based on information available to the petitioners.³¹ The petitioners valued material inputs using publicly available data for the prices of these inputs, where possible.³² The petitioners valued labor inputs for citric acid using publicly-available data multiplied by the product-specific usage rates.³³ To calculate the factory overhead rate, the petitioners relied on the fiscal year end (FYE) December 31, 2015, audited financial statements of Belgian citric acid producer, S.A. Citrique Belge N.V. (Citrique Belge).³⁴ To calculate the SG&A plus financial expense rate, the petitioners also relied on the FYE December 31, 2015, audited financial statements of Citrique Belge.³⁵

³¹ See Belgium AD Initiation Checklist.

³² Id.

³³ Id.

³⁴ Id.

³⁵ Id.

Because certain home market prices fell below COP, pursuant to sections 773(a)(4), 773(b), and 773(e) of the Act, as noted above, the petitioners calculated NVs based on CV.³⁶ Pursuant to section 773(e) of the Act, CV consists of the COM, SG&A, financial expenses, packing expenses, and profit. The petitioners calculated CV using the same COP described above, adding an amount for profit.³⁷ The petitioners calculated the profit rate based on the fiscal year 2016 financial statements of one of the U.S. citric acid producers.³⁸ The profit rate was applied to the corresponding total COM, SG&A, and financial expenses calculated above to derive CV.³⁹

³⁶ See Belgium AD Initiation Checklist.

³⁷ Id.

³⁸ Id.

³⁹ Id.

For Thailand, the petitioners calculated COM using the same surrogate as was used for Belgium during the POI, adjusted for known differences based on information available to the petitioners.⁴⁰ The petitioners valued material inputs using publicly available data for the prices of these inputs, where possible. The petitioners valued labor and energy inputs for citric acid using publicly available data multiplied by the product-specific usage rates.⁴¹ To calculate the SG&A plus financial expense rate, the petitioners relied on the FYE December 31, 2015, audited financial statements for COFCO Biochemical (Thailand) Co., Ltd. (COFCO), Niran Thailand Co., Ltd. (Niran), Sunshine Biotech International Co., Ltd. (Sunshine), and Thai Citric Acid Co., Ltd. (Thai Citric). The rate was computed based on the FYE December 31, 2015, SG&A (including other income and expenses), plus financial and investment income and financial costs.⁴² Because none of the four companies' financial statements contained any factory overhead detail, the petitioners relied on the audited financial statements for Ajinomoto Company (Thailand) Ltd. (Ajinomoto) for the fiscal year 2015-2016, i.e., April 2015 through March 2016. Ajinomoto is a producer of lysine and monosodium glutamate, both of which are bio-fermentation products produced using processes similar to those used for citric acid production.⁴³

⁴⁰ See Thailand AD Initiation Checklist.

⁴¹ Id.

⁴² Id.

⁴³ Id.

Because certain home market prices fell below COP, pursuant to sections 773(a)(4), 773(b), and 773(e) of the Act, as noted above, the petitioners also calculated NV based on CV.⁴⁴ Pursuant to section 773(e) of the Act, CV consists of the COM, SG&A, financial expenses, packing expenses, and profit. To calculate CV, we used the same COM calculated by the petitioners, plus the revised SG&A, and financial expense figures to compute the COP.⁴⁵ To calculate the profit rate, we relied on the 2015 financial statements for a Thai producer which was then applied to the total of material, labor and energy (MLE), factory overhead costs, SG&A and financial expenses.⁴⁶

⁴⁴ Id.

⁴⁵ Id.

⁴⁶ Id.

Fair Value Comparisons

Based on the data provided by the petitioners, there is reason to believe that imports of citric acid from Belgium, Colombia, and Thailand are being, or are likely to be, sold in the United States at less than fair value. Based on comparisons of EP to NV, in accordance with sections 772 and 773(a) of the Act, the estimated dumping margin(s) for citric acid are as follows: 41.18 to 49.46 percent for Colombia,⁴⁷ and 4.6 percent to 40.0 percent for Thailand.⁴⁸ Based on comparisons of EP to CV in accordance with sections 772 and 773(e) of the Act, the estimated dumping margins are as follows: 15.80 percent to 62.13 percent for Belgium,⁴⁹ and 15.18 percent to 39.98 percent for Thailand.⁵⁰

⁴⁷ See Colombia AD Initiation Checklist.

⁴⁸ See Thailand AD Initiation Checklist.

⁴⁹ See Belgium AD Initiation Checklist.

⁵⁰ See Thailand AD Initiation Checklist.

Initiation of Less-Than-Fair-Value Investigations

Based upon the examination of the AD Petitions, we find that the Petitions meet the requirements of section 732 of the Act. Therefore, we are initiating AD investigations to determine whether imports of citric acid from Belgium, Colombia, and Thailand are being, or are likely to be, sold in the United States at less than fair value. In accordance with section 733(b)(1)(A) of the Act and 19 CFR 351.205(b)(1), unless postponed, we will make our preliminary determinations no later than 140 days after the date of this initiation.

Respondent Selection

Based on information from independent sources, the petitioners identified one company in Belgium, one company in Colombia, and four companies in Thailand, as producers/exporters of citric acid.⁵¹ With respect to Thailand, following standard practice in AD investigations involving market-economy countries, the Department intends to review U.S. Customs and Border Protection (CBP) data for U.S. imports under the appropriate HTSUS numbers listed with the “Scope of the Investigations,” in the Appendix below. If it determines that, due to the large number of exporters or producers, it cannot individually examine each company based upon the Department's resources, then the Department will select respondents based on the CBP data. We also intend to release the CBP data under Administrative Protective Order (APO) to all parties with access to information protected by APO. Comments regarding the CBP data and respondent selection should be submitted seven calendar days after the placement of the CBP data on the record of the investigation. Parties wishing to submit rebuttal comments should submit those comments five calendar days after the deadline for the initial comments.

⁵¹ See Volume I of the Petitions at Exhibit I-5.

Although the Department normally relies on the number of producers/exporters identified in the petition and/or import data from CBP to determine whether to select a limited number of producers/exporters for individual examination in AD investigations, the Petitions identified only one company as a producer/exporter of citric acid in Belgium, Citrique Belge,⁵² and one company in Colombia, Sucroal, S.A.⁵³ We currently know of no additional producers/exporters of merchandise under consideration from these countries, and the petitioners provided information from independent sources as support.⁵⁴ Accordingly, the Department intends to examine all known producers/exporters in the investigations for Belgium and Colombia (i.e., the companies cited above for each respective investigation). Parties wishing to comment on respondent selection for Belgium and Colombia must do so within five days of the publication of this notice in the Federal Register.

⁵² Id.; see also Volume II of the Petitions, at 1 and Exhibit II-1.

⁵³ See Volume I of the Petitions at Exhibit I-5, and Volume III of the Petitions, at 1 and Exhibit III-1.

⁵⁴ See Volume I of the Petitions at Exhibit I-5.

Comments for the above-referenced investigations must be filed electronically using ACCESS. An electronically-filed document must be received successfully in its entirety by 5:00 p.m. ET by the dates noted above. We intend to finalize our decision regarding respondent selection within 20 days of publication of this notice.

Distribution of Copies of the Petitions

In accordance with section 732(b)(3)(A) of the Act and 19 CFR 351.202(f), copies of the public version of the Petitions have been provided to the governments of Belgium, Colombia, and Thailand via ACCESS. To the extent practicable, we will attempt to provide a copy of the public version of the Petitions to each exporter (as named in the Petitions), consistent with 19 CFR 351.203(c)(2).

ITC Notification

We will notify the ITC of our initiation, as required by section 732(d) of the Act.

Preliminary Determinations by the ITC

The ITC will preliminarily determine, within 45 days after the date on which the Petitions were filed, whether there is a reasonable indication that imports of citric acid from Belgium, Colombia, and/or Thailand are materially injuring or threatening material injury to a U.S. industry.⁵⁵ A negative ITC determination for any country will result in the investigation being terminated with respect to that country.⁵⁶ Otherwise, these investigations will proceed according to statutory and regulatory time limits.

⁵⁵ See section 733(a) of the Act.

⁵⁶ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). Any party, when submitting factual information, must specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Parties should review the regulations prior to submitting factual information in these investigations.

Extensions of Time Limits

Parties may request an extension of time limits before the expiration of a time limit established under Part 351, or as otherwise specified by the Secretary. In general, an extension request will be considered untimely if it is filed after the expiration of the time limit established under 19 CFR 351.301. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁵⁷ Parties are hereby reminded that revised certification requirements are in effect for company/government officials, as well as their representatives. Investigations initiated on the basis of petitions filed on or after August 16, 2013, and other segments of any AD or CVD proceedings initiated on or after August 16, 2013, should use the formats for the revised certifications provided at the end of the Final Rule.⁵⁸ The Department intends to reject factual submissions if the submitting party does not comply with applicable revised certification requirements.

⁵⁷ See section 782(b) of the Act.

⁵⁸ See Certification of Factual Information to Import Administration during Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed in 19 CFR 351.103(d)).

This notice is issued and published pursuant to section 777(i) of the Act and 19 CFR 351.203(c).

Dated: June 22, 2017.
Ronald K. Lorentzen,
Acting Assistant Secretary for Enforcement and Compliance.

Appendix—Scope of the Investigations

The merchandise covered by these investigations includes all grades and granulation sizes of citric acid, sodium citrate, and potassium citrate in their unblended forms, whether dry or in solution, and regardless of packaging type. The scope also includes blends of citric acid, sodium citrate, and potassium citrate; as well as blends with other ingredients, such as sugar, where the unblended form(s) of citric acid, sodium citrate, and potassium citrate constitute 40 percent or more, by weight, of the blend.

The scope also includes all forms of crude calcium citrate, including dicalcium citrate monohydrate, and tricalcium citrate tetrahydrate, which are intermediate products in the production of citric acid, sodium citrate, and potassium citrate.

The scope includes the hydrous and anhydrous forms of citric acid, the dihydrate and anhydrous forms of sodium citrate, otherwise known as citric acid sodium salt, and the monohydrate and monopotassium forms of potassium citrate. Sodium citrate also includes both trisodium citrate and monosodium citrate which are also known as citric acid trisodium salt and citric acid monosodium salt, respectively.

The scope does not include calcium citrate that satisfies the standards set forth in the United States Pharmacopeia and has been mixed with a functional excipient, such as dextrose or starch, where the excipient constitutes at least 2 percent, by weight, of the product.

Citric acid and sodium citrate are classifiable under 2918.14.0000 and 2918.15.1000 of the Harmonized Tariff Schedule of the United States (HTSUS), respectively. Potassium citrate and crude calcium citrate are classifiable under 2918.15.5000 and, if included in a mixture or blend, 3824.99.9295 of the HTSUS. Blends that include citric acid, sodium citrate, and potassium citrate are classifiable under 3824.99.9295 of the HTSUS. Although the HTSUS subheadings are provided for convenience and customs purposes, the written description of the merchandise is dispositive.

[FR Doc. 2017-13823 Filed 6-29-17; 8:45 am]

BILLING CODE 3510-DS-P